DEPARTMENT OF COMMERCE

International Trade Administration

[A-201-822]

Stainless Steel Sheet and Strip in Coils from Mexico; Extension of Time Limit for Preliminary Results of Antidumping Duty Administrative Review

AGENCY: Import Administration, International Trade Administration, Department of Commerce.

EFFECTIVE DATE: March 10, 2006.

FOR FURTHER INFORMATION CONTACT: Angela Strom at (202) 482-2704, Maryanne Burke at (202) 482-5604 or Robert James at (202) 482-0649, AD/CVD Operations, Office 7, Import Administration, International Trade Administration, U.S. Department of Commerce, 14th Street and Constitution Avenue NW., Washington, DC 20230.

SUPPLEMENTARY INFORMATION:

Background

On July 29, 2005, the Department of Commerce (the Department) received timely requests to conduct an administrative review of the antidumping duty order on stainless steel sheet and strip in coils from Mexico. On August 29, 2005, the Department published a notice of initiation of this administrative review, covering the period of July 1, 2004 to June 30, 2005 (70 FR 51009). The preliminary results are currently due no later than April 2, 2006.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within these time periods, section 751(a)(3)(A) of the Act allows the Department to extend the time limit for the preliminary results to a maximum of 365 days after the last day of the anniversary month of an order for which a review is requested.

We are currently analyzing a number of complex issues with respect to normal value and U.S. price, which must be addressed prior to the issuance of the preliminary results. Specifically, further analysis is needed with respect to the valuation of movement expenses, the calculation of expense ratios, related party transactions and the cost of production data used in the margin calculation programs. Moreover, we require additional information from the respondent, Mexinox, in order to complete our analysis and will not have time to analyze this information prior to the current deadline for the preliminary results. Accordingly, the Department is extending the time limit for completion of the preliminary results of this administrative review until no later than June 14, 2006, which is 318 days from the last day of the anniversary month. We intend to issue the final results no later than 120 days after publication of the preliminary results notice. This extension is issued and published in accordance with sections 751(a)(3)(A) and 777(i) of the Tariff Act.

Dated: March 6, 2006.
Stephen J. Claeys,
Deputy Assistant Secretary for Import Administration.

[FR Doc. E6-3471 Filed 3-9-06; 8:45 am]

BILLING CODE 3510-DS-S